DEPARTMENT OF HEALTH AND HUMAN SERVICES

Administration for Community Living

Administration on Intellectual and Developmental Disabilities, President's Committee for People With Intellectual Disabilities

AGENCY: Administration for Community Living, HHS.

ACTION: Notice.

SUMMARY: The President's Committee for People with Intellectual Disabilities (PCPID) will host a webinar/conference call for its members to discuss the potential topics of the Committee's 2019 Report to the President. All the PCPID meetings, in any format, are open to the public. This virtual meeting will be conducted in a discussion format.

DATES: Webinar/Conference Call: Wednesday, December 5, 2018 from 9:00 a.m. to 10:00 a.m. (EST).

FOR FURTHER INFORMATION CONTACT: Ms. Allison Cruz, Director, Office of Innovation, 330 C Street SW, Switzer Building, Room 1114, Washington, DC 20201. Telephone: 202-795-7334. Fax: 202-795-7334. Email: Allison.Cruz@acl.hhs.gov.

SUPPLEMENTARY INFORMATION: The purpose of this virtual meeting is to discuss the Committee's preparation of the PCPID 2019 Report to the President, including its content and format, and related data collection and analysis required to complete the writing of the Report.

Webinar/Conference Call: The webinar/conference call is scheduled for Wednesday, December 5, 2018, 9:00 a.m. to 10:00 a.m. (EST) and may end early if discussions are finished.

Instructions to Participate in the Webinar/Conference Call on Wednesday, December 5, 2018: Please dial: (888) 949-2790; Pass Code: 1989852

Background Information on the Committee: The PCPID acts in an advisory capacity to the President and the Secretary of Health and Human Services on a broad range of topics relating to programs, services and support for individuals with intellectual disabilities. The PCPID executive order stipulates that the Committee shall: (1) Provide such advice concerning intellectual disabilities as the President or the Secretary of Health and Human Services may request; and (2) provide advice to the President concerning the following for people with intellectual disabilities: (A) Expanding employment opportunities; (B) connecting people to services; (C) supporting families and caregivers; (D) strengthening the networks; and (E) protecting rights and preventing abuse.

Dated: November 15, 2018.
Julie Hocker,
Commissioner, Administration on Disabilities (AoD).

[FR Doc. 2018-25375 Filed 11-20-18; 8:45 am]

BILLING CODE 4154-01-P